DEPARTMENT OF COMMERCE

National Oceanic and Atmospheric Administration

RIN 0648-XF79

Marine Mammals; File No. 932-1905/MA-009526

AGENCY: National Marine Fisheries Service (NMFS), National Oceanic and Atmospheric Administration (NOAA), Commerce.

ACTION: Notice; issuance of permit amendment.

SUMMARY: Notice is hereby given that the NMFS Marine Mammal Health and Stranding Response Program (MMHSRP), Silver Spring, MD (Responsible Party, Teri Rowles, Ph.D., D.V.M.) has been issued a minor amendment to Scientific Research and Enhancement Permit No. 932-1905/MA-009562.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Jennifer Skidmore, (301) 427-8401.

SUPPLEMENTARY INFORMATION: The requested amendment has been granted under the authority of the Marine Mammal Protection Act of 1972, as amended (16 U.S.C. 1361 et seq.) and the regulations governing the taking and importing of marine mammals (50 CFR part 216).

Permit No. 932-1905/MA-009526, issued on June 30, 2009, (74 FR 37425) authorizes the MMHSRP to: (1) Carry out response, rescue, rehabilitation, and release of threatened and endangered marine mammals under NMFS jurisdiction in the U.S.; (2) conduct health-related scientific research studies on marine mammals and marine mammal parts under NMFS jurisdiction; (3) conduct Level B harassment on marine mammals under NMFS and U.S. Fish and Wildlife Service (USFWS) jurisdiction incidental to MMHSRP activities; (4) collect, salvage, receive, possess, transfer, import, export, analyze, and curate marine mammal specimens under NMFS jurisdiction; and (5) salvage (from dead stranded animals), receive, possess, transfer, import, export, analyze, and curate marine mammal specimens under USFWS jurisdiction. The minor amendment (No. 932-1905-01/MA-009526-1) extends the duration of the permit through June 30, 2015.

Dated: July 15, 2014.
Julia Harrison,
Chief, Permits and Conservation Division, Office of Protected Resources, National Marine Fisheries Service.

[FR Doc. 2014-16969 Filed 7-17-14; 8:45 am]

BILLING CODE 3510-22-P